NATIONAL ARCHIVES AND RECORDS ADMINISTRATION

[NARA-2021-008]

State, Local, Tribal, and Private Sector Policy Advisory Committee (SLTPS-PAC); Meeting

AGENCY: Information Security Oversight Office (ISOO), National Archives and Records Administration (NARA).

ACTION: Notice of Federal advisory committee meeting.

SUMMARY: We are announcing an upcoming meeting of the State, Local, Tribal, and Private Sector Policy Advisory Committee (SLTPS-PAC) in accordance with the Federal Advisory Committee Act and implementing regulations.

DATES: The meeting will be on January 27, 2021, from 10:00 a.m. to 12:00 p.m.

ADDRESSES: The meeting will be a virtual meeting. See supplementary procedures below.

FOR FURTHER INFORMATION CONTACT: Robert J. Skwirot, ISOO Senior Program Analyst by telephone at 202.357.5398 or by email at robert.skwirot@nara.gov. Please use the email contact method during the current COVID remote work situation. Contact ISOO at ISOO@nara.gov.

SUPPLEMENTARY INFORMATION: This virtual meeting is open to the public in accordance with the Federal Advisory Committee Act (5 U.S.C. app 2) and implementing regulations at 41 CFR 101-6. The Committee will discuss matters relating to the classified national security information program for state, local, tribal, and private sector entities.

Procedures: Please submit the name, email address, and telephone number of people planning to attend to Robert Skwirot at ISOO (contact information above) no later than Wednesday, January 20, 2021. We will provide meeting access information to those who register.

Maureen MacDonald,
Designated Committee Management Officer.

[FR Doc. 2020-25873 Filed 11-23-20; 8:45 am]

BILLING CODE 7515-01-P